DEPARTMENT OF HOMELAND SECURITY

Federal Emergency Management Agency

44 CFR Part 67

[Docket ID FEMA-2013-0002; Internal Agency Docket No. FEMA-B-1178]

Proposed Flood Elevation Determinations for Bolivar County, Mississippi and Incorporated Areas

AGENCY: Federal Emergency Management Agency, DHS.

ACTION: Proposed rule; withdrawal.

SUMMARY: The Federal Emergency Management Agency (FEMA) is withdrawing its proposed rule concerning proposed flood elevation determinations for Bolivar County, Mississippi and Incorporated Areas.

DATES: This withdrawal is effective on June 6, 2013.

ADDRESSES: You may submit comments, identified by Docket No. FEMA-B-1178, to Luis Rodriguez, Chief, Engineering Management Branch, Federal Insurance and Mitigation Administration, Federal Emergency Management Agency, 500 C Street SW., Washington, DC 20472, (202) 646-4064, or (email) Luis.Rodriguez3@fema.dhs.gov.

FOR FURTHER INFORMATION CONTACT: Luis Rodriguez, Chief, Engineering Management Branch, Federal Insurance and Mitigation Administration, Federal Emergency Management Agency, 500 C Street SW., Washington, DC 20472, (202) 646-4064, or (email) Luis.Rodriguez3@fema.dhs.gov.

SUPPLEMENTARY INFORMATION: On February 16, 2011 and on August 7, 2012, FEMA published a proposed rulemaking at 76 FR 8965 and 77 FR 46994, respectively, proposing flood elevation determinations along one or more flooding sources in Bolivar County, Mississippi. Because FEMA has or will be issuing a Revised Preliminary Flood Insurance Rate Map, and if necessary a Flood Insurance Study report, featuring updated flood hazard information, the proposed rulemaking is being withdrawn. A Notice of Proposed Flood Hazard Determinations will be published in the Federal Register and in the affected community's local newspaper.

Authority: 42 U.S.C. 4104; 44 CFR 67.4.

Roy E. Wright,
Deputy Associate Administrator for Mitigation, Department of Homeland Security, Federal Emergency Management Agency.

[FR Doc. 2013-13375 Filed 6-5-13; 8:45 am]

BILLING CODE 9110-12-P